DEPARTMENT OF HOMELAND SECURITY

Coast Guard

[Docket No. USCG-2010-0274]

Towing Safety Advisory Committee; Vacancies

AGENCY: Coast Guard, DHS.

ACTION: Request for applications.

SUMMARY: The Coast Guard seeks applications for membership on the Towing Safety Advisory Committee (TSAC). This Committee advises the Coast Guard on matters relating to shallow-draft inland and coastal waterway navigation and towing safety.

DATES: Completed application forms should reach us on or before May 21, 2010.

ADDRESSES: Application forms are available for download on the Advisory Committee's Web site at http://homeport.uscg.mil/tsac. Look for the Application for Committee Membership ACM under “General Information”. You may also request an application form be e-mailed or sent to you by writing to Commandant (CG-5222)/TSAC, U.S. Coast Guard, 2100 Second St., SW., STOP 7126, Washington, DC 20593-7126; calling 202-372-1427; or e-mail to Michael.J.Harmon@uscg.mil.

Also a copy of the application form, as well as this notice, is available in our online docket, USCG-2010-0274, at http://www.regulations.gov. Send your completed application to Michael J. Harmon, the Alternate Designated Federal Officer (ADFO) at the street address above.

FOR FURTHER INFORMATION CONTACT: Michael J. Harmon, ADFO of Towing Safety Advisory Committee (TSAC); telephone 202-372-1427; fax 202-372-1926; or e-mail at Michael.J.Harmon@uscg.mil.

SUPPLEMENTARY INFORMATION: The Towing Safety Advisory Committee (TSAC) (“Committee”) is a Federal advisory committee under 5 U.S.C. App. (Pub. L. 92-463). It was established under authority of 33 U.S.C. 1231a and advises the Secretary of Homeland Security on matters relating to shallow-draft inland and coastal waterway navigation and towing safety. This advice also assists the Coast Guard in formulating the position of the United States in advance of meetings of the International Maritime Organization.

The Committee meets at least twice a year around towing industry populations and in the Washington DC area. It may also meet for extraordinary purposes. Subcommittees and workgroups may conduct intersessional telephonic meetings when necessary for specific tasking. The 16 members include:

○ 7 representatives from the Barge and Towing industry (reflecting a regional geographical balance);

○ 1 member from the Offshore Mineral and Oil Supply Vessel industry;

○ 2 members each from the following sectors:

▪ Maritime Labor;

▪ Shippers (of whom one will be engaged in the shipment of oil or hazardous materials by barge);

▪ Port District Authorities or Terminal Operators;

▪ The General Public.

The Coast Guard is currently considering applications for six positions that will become vacant on September 30, 2010:

• 3 from the Barge and Towing industry;

• 1 from the Port District Authorities or Terminal Operators;

• 1 from Maritime Labor;

• 1 from Shippers (who must represent engagement in the shipment of oil or hazardous materials by barge).

To be eligible, applicants should have expertise, knowledge, and experience relative to the position in the towing industry, marine transportation, or business operations associated with shallow-draft inland and coastal waterway navigation and towing safety. Registered lobbyists are not eligible to serve on Federal advisory committees. Registered lobbyists are lobbyists required to comply with provisions contained in the Lobbying Disclosure Act of 1995 (Pub. L. 110-81, as amended). Each member serves for a term of three years. Members may be considered to serve consecutive terms. All members serve at their own expense and receive no salary, or other compensation from the Federal Government. The exception to this policy is the possible reimbursement of travel expenses depending on fiscal budgetary constraints.

In support of the policy of the Coast Guard on gender and ethnic diversity, we encourage qualified women and members of minority groups to apply. The Coast Guard values diversity; all the different characteristics and attributes that enhance the mission of the Coast Guard.

If you are interested in applying to become a member of the Committee, send a completed application to Michael J. Harmon, Alternate Designated Federal Officer (ADFO) of TSAC at Commandant (CG-5222)/TSAC, U.S. Coast Guard, 2100 Second ST SW., STOP 7126, Washington, DC 20593-7126. Send the application in time for it to be received by the DFO on or before May 21, 2010. Ensure the application is signed and include the short page which allows us to maintain political affiliation on file. In addition to your “HOME ADDRESS”, please include a valid e-mail address in that block. In the “TELEPHONE” block please include a valid contact number as well as a valid FAX number if available. A copy of the application form is available in the docket for this notice. To visit our online docket, go to http://www.regulations.gov, enter the docket number for this notice (USCG-2010-0274) in the Search box, and click “Go.”

Dated: April 14, 2010.
J.G. Lantz,
Director of Commercial Regulations and Standards.

[FR Doc. 2010-9121 Filed 4-20-10; 8:45 am]

BILLING CODE 9110-04-P